NATIONAL AERONAUTICS AND SPACE ADMINISTRATION

[Notice 02-066]

Notice of Information Collection Under Emergency Review

AGENCY: National Aeronautics and Space Administration (NASA).

ACTION: Notice of information collection under emergency review

SUMMARY: The National Aeronautics and Space Administration (NASA) has submitted the following information collection request to the Office of Management and Budget (OMB) for review and approval in accordance with the emergency review procedures of the Paperwork Reduction Act of 1995 (Pub. L. 104-13, 44 U.S.C. 3506(c)(2)(A)). Emergency review and approval of this collection has been requested from OMB by June 30, 2002. NASA, as part of its continuing effort to reduce paperwork and respondent burden, invites the general public and other Federal agencies to comment on this information collection concurrent with the OMB review period. The information obtained in this collection will assist NASA in assessing the effectiveness of aviation safety programs.

DATES: All comments should be submitted by June 30, 2002.

ADDRESSES: All comments should be addressed to Desk Officer for NASA; Office of Information and Regulatory Affairs; Office of Management and Budget; Room 10236; New Executive Office Building; Washington, DC 20503.

FOR FURTHER INFORMATION CONTACT: Ms. Nancy Kaplan, NASA Reports Officer, (202) 358-1372.

Title: National Aviation Operations Monitoring Service: General Aviation Pilots

OMB Number: 2700-

Type of review: New collection

Need and Uses: The information collected will be analyzed and used by NASA Aviation Safety Program managers to evaluate their progress in improving aviation over the next decade.

Affected Public: Individuals or households

Number of Respondents: 10,000

Responses Per Respondent: 1

Annual Responses: 10,000

Hours Per Request: Approx. ½ hour

Annual Burden Hours: 6,280

Frequency of Report: Quarterly; Annually

David B. Nelson,
Deputy Chief Information Officer, Office of the Administrator.

[FR Doc. 02-13459 Filed 5-29-02; 8:45 am]

BILLING CODE 7510-01-P